DEPARTMENT OF LABOR

Mine Safety and Health Administration

[OMB Control No. 1219-0144]

Proposed Extension of Information Collection: Mine Rescue Teams; Arrangements for Emergency Medical Assistance and Transportation for Injured Persons; Agreements; Reporting Requirements; Posting Requirements

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Mine Rescue Teams; Arrangements for Emergency Medical Assistance and Transportation for Injured Persons; Agreements; Reporting Requirements; Posting Requirements.”

DATES: All comments must be received on or before March 27, 2026.

ADDRESSES: Comments concerning the information collection requirements of this notice may be sent by any of the methods listed below. Please note that comments received after the deadline will not be considered.

• Federal E-Rulemaking Portal: https://www.regulations.gov. Follow the instructions for submitting comments for docket number MSHA-2025-0290.

• Mail/Hand Delivery: DOL-MSHA, Office of Standards, Regulations, and Variances, 200 Constitution Avenue NW, Room C3522, Washington, DC 20210. Before visiting MSHA in person, call 202-693-9440 to make an appointment.

• MSHA will post all comments as well as any attachments, except for information submitted and marked as confidential, in the docket at https://www.regulations.gov.

FOR FURTHER INFORMATION CONTACT: Jessica D. Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal (MNM) mines.

The Paperwork Reduction Act of 1995 (PRA, 44 U.S.C. 3501 et seq.) governs paperwork burdens imposed on the public by Federal agencies for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandate to promote miners' health and safety, MSHA requires information collected under the ICR titled “Mine Rescue Teams; Arrangements for Emergency Medical Assistance and Transportation for Injured Persons; Agreements; Reporting Requirements; Posting Requirements.” This information collection is intended to ensure that underground mine operators and mine rescue teams are prepared for a mine emergency. The records assist those making decisions that ultimately impact the safety of all persons underground at a mine.

Burden costs associated with the ICR include:

1. Submitting and posting mine rescue team compliance statements;

2. Applying for alternative mine rescue capability and posting applications;

3. MSHA reviewing applications for alternative mine rescue capability;

4. Certifying inspections and recording corrective actions of mine rescue equipment;

5. Certifying medical fitness of mine rescue team members;

6. Recording training for mine rescue team members;

7. MSHA revoking training instructor's approvals;

8. Creating and posting mine emergency notification plans;

9. Certifying mine rescue teams at underground coal mines; and

10. Creating and posting arrangements for emergency medical assistance and transportation at coal mines.

The associated standards that authorize the collection of information are described below.

1. Submitting and Posting Mine Rescue Team Compliance Statements

Under 30 CFR 49.2(a) and 49.12(a), except where alternative compliance is permitted for small and remote mines, or MNM mines operating under special mining conditions, every operator of an underground mine shall establish at least two mine rescue teams which are available at all times when miners are underground; or enter into an arrangement for mine rescue services which assures that at least two mine rescue teams are available at all times when miners are underground.

Under 30 CFR 49.2(b) and 49.12(b), each mine rescue team shall consist of five members and one alternate who are fully qualified, trained, and equipped for providing emergency mine rescue service. Mine rescue teams for anthracite coal mines, which have no electrical equipment at the face or working section, shall consist of at least three members per team and one alternate that may be shared between both teams.

Under 30 CFR 49.2(c) and 49.12(c), to be considered for membership on a mine rescue team, each person must have been employed in an underground mine for a minimum of 1 year within the past 5 years, except that members of contract mine rescue teams shall have a minimum of 3 years underground coal mine experience that shall have occurred within the 10-year period preceding their employment on the contract mine rescue team. For the purpose of mine rescue work only, miners who are employed on the surface but work regularly underground shall meet the experience requirement.

Under 30 CFR 49.2(h) and 49.12(h), each operator of an underground mine who provides rescue teams shall send the District Manager a statement describing the mine's method of compliance. The statement shall disclose whether the operator has independently provided mine rescue teams or entered into an agreement for the services of mine rescue teams. The name of the provider and the location of the services shall be included in the statement. A copy of the statement shall be posted at the mine for the miners' information. Where a miners' representative has been designated, the operator shall also provide the representative with a copy of the statement.

2. Applying for Alternative Mine Rescue Capability and Posting Applications

Small and Remote Mines

Under 30 CFR 49.3(a) and 49.13(a), if an underground mine is small and remote, an operator may provide for an alternative mine rescue capability consistent with statutory requirements.

For the purposes of 30 CFR 49.3 only, consideration for small and remote MNM mines shall be given where the total underground employment of the operator's mine and any surrounding mine(s) within 2 hours ground travel time of the operator's mine is less than 36.

For the purposes of 30 CFR 49.13 only, consideration for small and remote coal mines shall be given where the total underground employment of the operator's mine and any surrounding mine(s) within 1 hour ground travel time of the operator's mine is less than 36.

Under 30 CFR 49.3(b) and 49.13(b), an application for alternative mine rescue capability shall be submitted to the District Manager for the district in which the mine is located for review and approval.

Under 30 CFR 49.3(c) and 49.13(c), each application for an alternative mine rescue capability shall contain:

(i) The number of miners employed underground at the mine on each shift;

(ii) The distances from the two nearest mine rescue stations for MNM mines, or the location of the designated mine rescue station serving the mine for coal mines;

(iii) The total underground employment of mines within two hours ground travel time of the operator's mine for MNM mines, or within one hour ground travel time of the operator's mine for coal mines;

(iv) The operator's mine fire, ground, and roof control history;

(v) The operator's established escape and evacuation plan;

(vi) A statement by the operator evaluating the usefulness of additional refuge chambers to supplement those which may exist;

(vii) A statement by the operator as to the number of miners willing to serve on a mine rescue team;

(viii) The operator's alternative plan for assuring that a suitable mine rescue capability is provided at all times when miners are underground; and

(ix) Other relevant information about the operator's mine which may be requested by the District Manager.

Under 30 CFR 49.3(d) and 49.13(d), a copy of the operator's application shall be posted at the mine. Where a miners' representative has been designated, the operator shall also provide the representative with a copy of the application.

Under 30 CFR 49.3(f) and 49.13(f), where alternative compliance is approved by MSHA, the operator shall adopt the alternative plan and post a copy of the approved plan (with appropriate MSHA mine emergency telephone numbers) at the mine for the miners' information. Where a miners' representative has been designated, the operator shall also provide the representative with a copy of the approved plan.

Under 30 CFR 49.3(g) and 49.13(g), the operator shall notify the District Manager of any changed condition or factor materially affecting information submitted in the application for alternative mine rescue capability.

Special Mining Conditions in MNM Mines

Under 30 CFR 49.4(a), if an underground MNM mine is operating under special mining conditions, the operator may provide an alternative mine rescue capability.

Under 30 CFR 49.4(b), an application for alternative mine rescue capability shall be submitted to the District Manager for the district in which the mine is located for review and approval.

Under 30 CFR 49.4(c), to be considered “operating under special mining conditions,” the operator must show that all of the following conditions are present:

(i) The mine has multiple adits or entries;

(ii) The mined substance is noncombustible and the mining atmosphere nonexplosive;

(iii) There are multiple vehicular openings to all active mine areas, sufficient to allow fire and rescue vehicles full access to all parts of the mine in which miners work or travel;

(iv) Roadways or other openings are not supported or lined with combustible materials;

(v) The mine shall not have a history of flammable-gas emission or accumulation, and the mined substance shall not have a history associated with flammable or toxic gas problems; and

(vi) Any reported gas or oil well or exploratory drill hole shall be plugged to within 100 feet above and below the horizon of the ore body or seam.

Under 30 CFR 49.4(d), each application shall contain:

(i) An explanation of the special mining conditions;

(ii) The number of miners employed underground at the mine on each shift;

(iii) The distances from the two nearest mine rescue stations;

(iv) The operator's mine fire history;

(v) The operator's established escape and evacuation plan;

(vi) The operator's alternative plan for assuring that a suitable mine rescue capability is provided at all times when miners are underground; and

(vii) Other relevant information about the operator's mine which may be requested by the District Manager.

Under 30 CFR 49.4(e), a copy of the operator's application shall be posted at the mine. Where a miners' representative has been designated, the operator shall also provide the representative with a copy of the application.

Under 30 CFR 49.4(g), where alternative compliance is approved by MSHA the operator shall adopt the alternative plan and post a copy of the approved plan (with appropriate MSHA mine emergency telephone numbers) at the mine for the miners' information. Where a miners' representative has been designated, the operator shall also provide the representative with a copy of the alternative plan.

Under 30 CFR 49.4(h), the operator shall notify the District Manager of any changed condition or factor materially affecting information submitted in the application for alternative mine rescue capability.

3. MSHA Reviewing Applications for Alternative Mine Rescue Capability

Under 30 CFR 49.3(e), 49.13(e), and 49.4(f), in determining whether to approve an application for alternative compliance, the District Manager shall consider:

(i) The individual circumstances of the small and remote mine, or the individual circumstances of the MNM mine operating under special mining conditions;

(ii) Comments submitted by, or on behalf of, any affected miner; and

(iii) Whether the alternative mine rescue plan provides a suitable rescue capability at the operator's mine.

Under 30 CFR 49.3(h)(1), 49.13(h)(1), and 49.4(i)(1), an approved plan for alternative mine rescue capability shall be subject to revocation or modification for cause for small and remote mines, or subject to revocation or modification for MNM mines operating under special mining conditions by MSHA, where it is determined that a condition or factor has changed which would materially alter the operator's mine rescue capability. If such action is contemplated, the operator will be notified and given an opportunity to be heard before the appropriate District Manager.

Under 30 CFR 49.3(h)(2), 49.13(h)(2), and 49.4(i)(2), if an application for alternative compliance is denied or revoked, the District Manager shall provide the reason for such denial or revocation in writing to the operator. The operator may appeal this decision in writing to MSHA.

4. Certifying Inspections and Recording Corrective Actions of Mine Rescue Equipment Mine Rescue Stations

Mine Rescue Stations

Under 30 CFR 49.5(a) and 49.15(a), except where alternative compliance is permitted in MNM mines, every operator of an underground mine shall designate, in advance, the location of the mine rescue station serving the mine.

Under 30 CFR 49.5(b) and 49.15(b), mine rescue stations are to provide a centralized storage location for rescue equipment. This centralized storage location may be either at the mine site, affiliated mines, or a separate mine rescue structure.

Under 30 CFR 49.5(c) and 49.15(c), mine rescue stations shall also provide a proper storage environment to assure equipment readiness for immediate use.

Under 30 CFR 49.5(d) and 49.15(d), authorized representatives of the Secretary shall have the right of entry to inspect any designated mine rescue station.

Equipment and Maintenance Requirements

Under 30 CFR 49.6(a) and 49.16(a), each mine rescue station shall be provided with a specified list of equipment, including, in part, at least 12 self-contained breathing apparatus with a minimum of 4 hours capacity. Mine rescue stations serving underground anthracite coal mines, which have no electrical equipment at the face or working section, shall have at least the amount of equipment appropriate for the number of mine rescue team members.

Under 30 CFR 49.6(b) and 49.16(b), mine rescue apparatus and equipment shall be maintained in a manner that will ensure readiness for immediate use. A person trained in the use and care of breathing apparatus shall inspect and test the apparatus at intervals not exceeding 30 days and shall certify by signature and date that the inspections and tests were done. When the inspection indicates that a corrective action is necessary, the corrective action shall be made and the person shall record the corrective action taken. The certification and the record of corrective action shall be maintained at the mine rescue station for a period of one year and made available on request to an authorized representative of the Secretary.

5. Certifying Medical Fitness of Mine Rescue Team Members

Under 30 CFR 49.7(a) and 49.17(a), each member of a mine rescue team shall be examined annually by a physician who shall certify that each person is physically fit to perform mine rescue and recovery work for prolonged periods under strenuous conditions. The first such physical examination shall be completed within 60 days prior to scheduled initial training. A team member requiring corrective eyeglasses will not be disqualified provided the eyeglasses can be worn securely within an approved facepiece.

Under 30 CFR 49.7(b) and 49.17(b), in determining whether a miner is physically capable of performing mine rescue duties, the physician shall take into consideration the list of medical conditions found in these sections.

Under 30 CFR 49.7(c) and 49.17(c), the operator shall have MSHA Form 5000-3 certifying medical fitness completed and signed by the examining physician for each member of a mine rescue team. These forms shall be kept on file at the mine rescue station for a period of one year.

6. Recording Training for Mine Rescue Team Members

Under 30 CFR 49.8(a) and 49.18(a), prior to serving on a mine rescue team each member shall complete, at a minimum, an initial 20-hour course of instruction as prescribed by MSHA, in the use, care, and maintenance of the type of breathing apparatus which will be used by the mine rescue team.

Under 30 CFR 49.8(b), upon completion of the initial training, all team members on teams serving MNM mines shall receive at least 40 hours of refresher training annually. This training shall be given at least 4 hours each month, or for a period of 8 hours every two months. The training shall include:

(i) Sessions underground at least once each 6 months;

(ii) The wearing and use of the breathing apparatus by team members for a period of at least two hours while under oxygen every two months;

(iii) Where applicable, the use, care, capabilities, and limitations of auxiliary mine rescue equipment, or a different breathing apparatus;

(vi) Advanced mine rescue training and procedures, as prescribed by MSHA; and

(v) Mine map training and ventilation procedures.

Under 30 CFR 49.18(b), upon completion of the initial training, all team members on teams serving coal mines shall receive at least 96 hours of refresher training annually, which shall include participation in local mine rescue contests and training at the covered mine. Training shall be given at least 8 hours every 2 months and shall consist of:

(i) Sessions underground at least once each 6 months;

(ii) The wearing and use of the breathing apparatus by team members for a period of at least 2 hours while under oxygen every 2 months;

(iii) Where applicable, the use, care, capabilities, and limitations of auxiliary mine rescue equipment, or a different breathing apparatus;

(iv) Advanced mine rescue training and procedures, as prescribed by MSHA;

(v) Mine map training and ventilation procedures; and

(vi) The wearing of mine rescue apparatus while in smoke, simulated smoke, or an equivalent environment at least once during each 12-month period.

Under 30 CFR 49.8(c) and 49.18(c), a mine rescue team member will be ineligible to serve on a team if more than 8 hours of training is missed during 1 year, unless additional training is received to make up for the time missed.

Under 30 CFR 49.8(f) and 49.18(f), upon request from the District Manager, the operator shall provide information concerning the schedule of upcoming training.

Under 30 CFR 49.8(g) and 49.18(g), a record of training of each team member shall be on file at the mine rescue station for a period of one year.

7. MSHA Revoking Training Instructor's Approvals

Under 30 CFR 49.8(d), the training courses required for MNM mine rescue teams shall be conducted by instructors who have been employed in an underground mine for a minimum of one year within the past five years.

Under 30 CFR 49.18(d), the training courses required for coal mine rescue teams shall be conducted by instructors who have been employed in an underground mine and have had a minimum of 1 year experience as a mine rescue team member or a mine rescue instructor within the past 5 years.

Under 30 CFR 49.8(d) and 49.18(d), the instructors must have received MSHA approval through:

(i) Completion of an MSHA or State approved instructor's training course and the program of instruction in the subject matter to be taught.

(ii) Designation by the District Manager as approved instructors to teach specific courses, based on their qualifications and teaching experience. Previously approved instructors need not be re-designated to teach the approved courses as long as they have taught those courses within the 24 months prior to the effective date. For MNM mines where individuals are designated, the District Manager may waive the underground experience requirement.

Under 30 CFR 49.8(e) and 49.18(e), the District Manager may revoke an instructor's approval for good cause. A written statement revoking the approval together with reasons for revocation shall be provided to the instructor. The affected instructor may appeal the decision of the District Manager by writing to MSHA. MSHA shall issue a decision on the appeal.

8. Creating and Posting Mine Emergency Notification Plans

Under 30 CFR 49.9(a) and 49.19(a), each underground mine shall have a mine rescue notification plan outlining the procedures to follow in notifying the mine rescue teams when there is an emergency that requires their services.

Under 30 CFR 49.9(b) and 49.19(b), a copy of the mine rescue notification plan shall be posted at the mine for the miners' information. Where a miners' representative has been designated, the operator shall also provide the representative with a copy of the plan.

9. Certifying Mine Rescue Teams at Underground Coal Mines

Under 30 CFR 49.50(a), for each mine rescue team designated to provide mine rescue coverage at an underground coal mine, the mine operator shall send the District Manager an annual statement certifying that each team meets the requirements as listed in Table 49.50-A and Table 49.50-B of this section.

Under 30 CFR 49.50(b), the operator shall notify the District Manager within 60 days of any change in team membership.

10. Creating and Posting Arrangements for Emergency Medical Assistance and Transportation at Coal Mines

Under 30 CFR 75.1713-1(a) and 77.1702(a), each coal mine operator shall make arrangements with a licensed physician, medical service, medical clinic, or hospital to provide 24-hour emergency medical assistance for any person injured at the mine.

Under 30 CFR 75.1713-1(b) and 77.1702(b), each coal mine operator shall make arrangements with an ambulance service or otherwise provide for 24-hour emergency transportation for any person injured at the mine.

Under 30 CFR 75.1713-1(c) and 77.1702(c), each coal mine operator shall report to the District Manager for the district in which the mine is located the name, title and address of the physician, medical service, medical clinic, hospital or ambulance service with whom arrangements have been made or otherwise provided.

Under 30 CFR 75.1713-1(d) and 77.1702(d), each coal mine operator shall, within 10 days after any change of the arrangements required to be reported, report such changes to the District Manager. If such changes involve a substitution of persons, the operator shall provide the name, title, and address of the person substituted together with the name and address of the medical service, medical clinic, hospital, or ambulance service with which such person or persons are associated.

Under 30 CFR 75.1713-1(e) and 77.1702(e), each coal mine operator shall, immediately after making a required arrangement, or immediately after any change of such arrangement, post at appropriate places at the mine the names, titles, addresses, and telephone numbers of all persons or services currently available under such arrangements to provide medical assistance and transportation at the mine.

II. Desired Focus of Comments

MSHA is soliciting comments concerning the proposed information collection titled “Mine Rescue Teams; Arrangements for Emergency Medical Assistance and Transportation for Injured Persons; Agreements; Reporting Requirements; Posting Requirements.” MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the information collection on those who are to respond, including through the use of appropriate automated, electronic, mechanical, or other technological collection techniques or other forms of information technology, e.g., permitting electronic submission of responses.

The ICR is available on https://www.regulations.gov. MSHA cautions commenters against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9440 to make an appointment.

Questions about the information collection requirements may be directed to the person listed in the FOR FURTHER INFORMATION CONTACT section of this notice.

III. Current Actions

This ICR concerns provisions for Mine Rescue Teams; Arrangements for Emergency Medical Assistance and Transportation for Injured Persons; Agreements; Reporting Requirements; Posting Requirements. MSHA has updated the data with respect to the number of respondents, responses, time burden, and burden costs supporting this ICR from the previous ICR.

Type of Review: Extension, without change, of a currently approved collection.

Agency: Mine Safety and Health Administration.

OMB Number: 1219-0144.

Affected Public: Business or other for-profit entity.

Number of Annual Respondents: 1,369.

Frequency: On occasion.

Number of Annual Responses: 37,236.

Annual Time Burden: 6,186 hours.

Annual Recordkeeping Costs: $984.

MSHA Forms: MSHA Form 2000-224, Operator's Annual Certification of Mine Rescue Team Qualifications and MSHA Form 5000-3, Certificate of Physical Qualification for Mine Rescue Work.

Comments submitted in response to this notice will be summarized and included in the request for Office of Management and Budget approval of the proposed ICR; they will become a matter of public record and be available at https://www.reginfo.gov.

Jessica D. Senk,
Certifying Officer, Mine Safety and Health Administration.

[FR Doc. 2026-01383 Filed 1-23-26; 8:45 am]

BILLING CODE 4510-43-P